DEPARTMENT OF ENERGY

Bonneville Power Administration

Fiscal Year (FY) 2010-2011 Proposed Power and Transmission Rate Adjustments; Public Hearing and Opportunities for Public Review and Comment; Correction

AGENCY: Bonneville Power Administration (BPA), Department of Energy (DOE).

ACTION: Notice of FY 2010-2011 Proposed Power and Transmission Rate Adjustments; Correction.

SUMMARY: On February 10, 2009, BPA published a notice in the Federal Register (74 FR 6609), (February 10, 2009 Notice) announcing its upcoming consolidated rate proceeding, BPA-10, with separate sub-dockets for power and transmission rates for FY 2010-2011. However, on page 6611, third column in Part III.A., Distinguishing Between “Participants” and “Parties,” of the February 10, 2009 Notice, BPA made a misstatement that it now wishes to correct. The fifth sentence in this section, which stated “BPA customers whose rates are subject to this proceeding, or their affiliated customer groups, may not submit participant comments.”, is hereby deleted in its entirety and replaced with the following sentence “Any entity that has intervened in this proceeding may not submit participant comments.”

Part III.A., on page 6611, third column is corrected to read as follows:

Part III—Public Participation

A. Distinguishing Between “Participants” and “Parties”

BPA distinguishes between “participants in” and “parties to” the hearings. Apart from the formal hearing process, BPA will receive written comments, views, opinions, and information from “participants,” who are defined in BPA's Procedures as persons who may submit comments without being subject to the duties of, or having the privileges of, parties. Participants' written comments will be made part of the official record and considered by the Administrator. Participants are not entitled to participate in the prehearing conference; may not cross-examine parties' witnesses, seek discovery, or serve or be served with documents; and are not subject to the same procedural requirements as parties. Any entity that has intervened in this proceeding may not submit participant comments. Members or employees of entities that have intervened in the rate proceeding may submit general comments as participants but may not use the comment procedures to address specific issues raised by their intervenor organization or others.

Written comments by participants will be included in the record if they are received by April 24, 2009. Written views, supporting information, questions, and arguments should be submitted to the address listed in the ADDRESSES section of this Notice.

Entities or persons become parties to the proceeding by filing petitions to intervene, which must state the name and address of the entity or person requesting party status and their interest in the hearing. BPA customers and affiliated customer groups will be granted intervention based on a petition filed in conformance with BPA's Procedures. Other petitioners must explain their interests in sufficient detail to permit the hearing officer to determine whether such petitioners have a relevant interest in the hearing. Pursuant to Rule 1010.1(d) of BPA's Procedures, BPA waives the requirement in Rule 1010.4(d) that an opposition to an intervention petition be filed and served 24 hours before the prehearing conference. Any opposition to an intervention petition must instead be made at the prehearing conference. Any party, including BPA, may oppose a petition for intervention. All timely petitions will be ruled on by the hearing officer. Late interventions are strongly disfavored. Opposition to an untimely petition to intervene must be filed and received by BPA within two days after service of the petition.

FOR FURTHER INFORMATION CONTACT: Ms. Heidi Helwig—DKE-7, Public Affairs Specialist, Bonneville Power Administration, P.O. Box 3621, Portland, Oregon 97208-3621; by phone at 503-230-3488 or toll free at 1-800-622-4519; or via e-mail to hyhelwig@bpa.gov.

Responsible Official: Mr. Raymond D. Bliven, Power Rates Manager, is the official responsible for the development of BPA's power rates, and Mr. Edison Elizeh, Commercial Business Assessment Manager, is the official responsible for the development of BPA's transmission and ancillary services rates.

BPA Attorney Advisors: Mr. Peter J. Burger is the principal BPA attorney assigned to the power rates sub-docket proceeding, and Mr. Barry Bennett is the principal BPA attorney assigned to the transmission and ancillary services rates sub-docket proceeding. Mr. Burger may be contacted as follows: by U.S. Mail at Mr. Peter J. Burger, Office of General Counsel, LP-7, Bonneville Power Administration, P.O. Box 3621, Portland, OR 97208-3621; via e-mail at pjburger@bpa.gov; or by telephone at 503-230-4148. Mr. Bennett may be contacted as follows: by U.S. Mail at Mr. Barry Bennett, Office of General Counsel, LC-7, Bonneville Power Administration, P.O. Box 3621, Portland, OR 97208-3621; via e-mail at bbennett@bpa.gov; or by telephone at 503-230-4053.

Issued this 20 day of February, 2009.
Stephen J. Wright,
Administrator and Chief Executive Officer.

[FR Doc. E9-4323 Filed 2-27-09; 8:45 am]

BILLING CODE 6450-01-P